NATIONAL ARCHIVES AND RECORDS ADMINISTRATION

36 CFR Parts 1228, 1250, and 1254

RIN 3095-AB15

NARA Regulations; Technical Amendments

AGENCY: National Archives and Records Administration (NARA).

ACTION: Final rule.

SUMMARY: NARA is correcting references to NARA Web sites in its regulations. References to NARA Web sites are currently in our records management regulations and in our public availability and use of records regulations. This final rule will affect Federal agencies and the public.

EFFECTIVE DATE: June 27, 2002.

FOR FURTHER INFORMATION CONTACT: Kim Richardson at telephone number 301-837-2902, or fax number 301-837-0319.

SUPPLEMENTARY INFORMATION: NARA has redesigned its public Web site and its Web site address is changed from www.nara.gov to www.archives.gov. Parts 1228, 1250, and 1254 contain references to the NARA Web site. These references need to be corrected to reflect the new Web site address. This final rule contains technical amendments such as references to NARA Web sites.

This rule is effective upon publication for “good” cause as permitted by the Administrative Procedure Act (5 U.S.C. 553(d)(3)). NARA believes that delaying the effective date for 30 days is unnecessary as this rule represents minor technical amendments. Moreover, as the public benefits immediately being provided with accurate Web site addresses for NARA's public Web site, any delay in the effective date would be contrary to the public interest.

This final rule is not a significant regulatory action for the purposes of Executive Order 12866 and has not been reviewed by the Office of Management and Budget. As required by the Regulatory Flexibility Act, I certify that this final rule will not have a significant impact on a substantial number of small entities. This regulation does not have any federalism implications.

List of Subjects

36 CFR Part 1228

Archives and records.

36 CFR Part 1250

Confidential business information, Freedom of information.

36 CFR Part 1254

Archives and records, Confidential business information, Freedom of information, Micrographics.

For the reasons set forth in the preamble, NARA amends parts 1228, 1250, and 1254 of title 36, Code of Federal Regulations, as follows:

PART 1228—DISPOSITION OF FEDERAL RECORDS

1. The authority citation for Part 1228 continues to read as follows:

Authority: 44 U.S.C. chs. 21, 29, and 33.

§ 1228.12 [Amended]

2. In the introductory paragraph of § 1228.12, remove the Web site address “http://www.nara.gov/records/pubs/” and add in its place the Web site address “http://www.archives.gov/records_management/publications/disposition_of_federal_records/index.html.”

§ 1228.22 [Amended]

3. In the introductory paragraph of § 1228.22, remove the Web site address “http://www.nara.gov/records/pubs/” and add in its place the Web site address “http://www.archives.gov/records_management/publications/disposition_of_federal_records/index.html.”

§ 1228.150 [Amended]

4. In paragraph (a) of § 1228.150 remove the Web site address “http://www.nara.gov” and add in its place the Web site address “http://www.archives.gov/facilities/index.html.”

§ 1228.160 [Amended]

5. In paragraph (f) of § 1228.160 remove the Web site address “http://www.nara.gov” and add in its place the Web site address “http://www.archives.gov.”

§ 1228.166 [Amended]

6. In paragraph (b) of § 1228.166 remove the Web site address “http://www.nara.gov/regional/cpr.html” and add in its place the Web site address “http://www.archives.gov/facilities/mo/st_louis.html.”

PART 1250—PUBLIC AVAILABILITY AND USE OF FEDERAL RECORDS

1. The authority citation for Part 1250 continues to read as follows:

Authority: 44 U.S.C. 2104(a), 2204; 5 U.S.C. 552; E.O. 12600, 52 FR 23781, 3 CFR, 1987 Comp., p. 235.

§ 1250.12 [Amended]

2. In paragraph (c) of § 1250.12 remove the Web site address “http://www.nara.gov/foia” and add in its place the Web site address “http://www.archives.gov/research_room/foia_reading_room/foia_reading_room.html.”

§ 1250.24 [Amended]

3. In § 1250.24 remove the Web site address “inquire@nara.gov” and add in its place the Web site address “http://www.archives.gov/global_pages/inquire_form.html.”

§ 1250.76 [Amended]

4. In § 1250.76 remove the Web site address “inquire@nara.gov” and add in its place the Web site address “http://www.archives.gov/global_pages/inquire_form.html.”

PART 1254—AVAILABILITY OF RECORDS AND DONATED HISTORICAL MATERIALS

1. The authority citation for Part 1254 continues to read as follows:

Authority: 44 U.S.C. 2101-2118; 5 U.S.C. 552; and E.O. 12600, 52 FR 23781, 3 CFR, 1987 Comp., p. 235.

2. In § 1254.2, revise paragraph (a) to read as follows:

§ 1254.2 Location of documents and hours of use.

(a) Researchers should identify the location of the documents needed. Information about the location of records may be obtained by writing to the National Archives and Records Administration (NWCC1), Washington, DC 20408; by sending an e-mail message to http://www.archives.gov/global_pages/inquire_form.html; sending a fax request to (301) 837-0483; or calling (202) 501-5400 or (301) 837-2000.

* * * * *

Dated: June 21, 2002.
John W. Carlin,
Archivist of the United States.

[FR Doc. 02-16165 Filed 6-26-02; 8:45 am]

BILLING CODE 7515-01-P